CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed competition of its Office of Leadership Development and Training (hereinafter `OLDT') cooperative agreement applications. These applications are used by current and prospective grantees to apply for funds to support training and technical assistance to Corporation grantees funded through AmeriCorps, Senior Corps, Lean and Serve and NCCC. Completion of the Grant Application is required to be considered for or obtain a Corporation cooperative agreement to provide training and technical assistance services to Corporation grantees and subgrantees.

Copies of the information collection requests can be obtained by contacting the office listed in the addresses section of this notice.

DATES: Written comments must be submitted to the individual and office listed in the ADDRESSES section by June 30, 2008.

ADDRESSES: You may submit comments, identified by the title of the information collection activity, by any of the following methods:

(1) By mail sent to: Corporation for National and Community Service, Office of Leadership Development and Training; Attention Ralph Morales, Acting Associate Director for Administration and Budget, Room 9809; 1201 New York Avenue, NW., Washington, DC 20525.

(2) By hand delivery or by courier to the Corporation's mailroom at Room 6010 at the mail address given in paragraph (1) above, between 9 a.m. and 4 p.m. Monday through Friday, except Federal holidays.

(3) By fax to: (202) 606-3477, Attention Ralph Morales, Acting Associate Director for Budget and Administration.

(4) Electronically through the Corporation's e-mail address system: rmorales@cns.gov.

FOR FURTHER INFORMATION CONTACT: Ralph Morales, (202) 606-6829, or by e-mail at rmorales@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (>e.g., permitting electronic submissions of responses).

Background

The Office of Leadership Development and Training Application is completed by applicant organizations interested in providing training and technical assistance services to Corporation grantees and subgrantees to train them in effectively managing their Corporation-funded programs. The application is completed electronically using eGrants, the Corporation's Web-based grants management system.

Current Action

The Corporation seeks to recompete and revise the current applications. When revised, the application will revise/clarify eGrants instructions to reflect the new, Web-based user interface for eGrants; shorten background information on the Office of Leadership Development and Training and clarify guidance on the cost effectiveness of services provided.

The application will otherwise be used in the same manner as the existing application. The Corporation also seeks to continue using the current application until the revised application is approved by OMB. The current application is due to expire on May 31, 2008.

Type of Review: Renewal.

Agency: Corporation for National and Community Service.

Title: Application Instructions Training and Technical Assistance Cooperative Agreements.

OMB Number: 3045-0105.

Agency Number: None.

Affected Public: Current/prospective training and technical assistance providers.

Total Respondents: 56.

Frequency: Every three years.

Average Time per Response: Averages 11.75 hours. Estimated at 16.5 hours for first-time respondents; 7 hours for current providers.

Estimated Total Burden Hours: 658 hours.

Total Burden Cost (capital/startup): None.

Total Burden Cost (operating/maintenance): None.

Comments submitted in response to this notice will be summarized and/or included in the request for Office of Management and Budget approval of the information collection request; they will also become a matter of public record.

Dated: April 16, 2008.
Gretchen Van der Veer,
Director, Office of Leadership Development & Training.

[FR Doc. E8-9355 Filed 4-28-08; 8:45 am]

BILLING CODE 6050-$$-P